DEPARTMENT OF THE INTERIOR

Geological Survey

[GX24GC009PLFM00]

Call for Nominations for the Geologic Mapping Advisory Committee

AGENCY: U.S. Geological Survey, Department of the Interior.

ACTION: Call for nominations.

SUMMARY: The U.S. Department of the Interior (Department) is seeking nominations for qualified persons to serve as members of the Geologic Mapping Advisory Committee (Committee).

DATES: Nominations for the Committee must be submitted by November 12, 2024.

ADDRESSES: Nominations should be emailed to Michael Marketti, Designated Federal Officer, at mmarketti@usgs.gov with the subject line “Geologic Mapping Advisory Committee Nominations.”

FOR FURTHER INFORMATION CONTACT: Michael Marketti, via telephone (703) 648-6976, or by email mmarketti@usgs.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Committee was established by the National Geologic Mapping Act of 1992, as amended (43 U.S.C. 31d), and the Energy Policy Act of 2005, as amended (42 U.S.C. 15908). The Committee is operated pursuant to the Federal Advisory Committee Act, as amended (5 U.S.C. ch. 10), and the Federal Advisory Committee Management regulations found at 41 CFR part 102-3. The Committee will advise the Secretary on planning and implementation of the National Cooperative Geologic Mapping Program (NCGMP) and National Geological and Geophysical Data Preservation Program (NGGDPP).

Committee duties in relation to the NCGMP, include: reviewing the ongoing scientific progress of the NCGMP; conducting a general overview of Program-funded geologic mapping and related activities that inform or are disseminated by Federal agencies for regulation or land-use planning; and working collaboratively to develop a report to the Secretary, through the Director, that provides an overview of Program activities and provides an update on progress made toward fulfilling the purposes of the National Geologic Mapping Act of 1992.

Committee duties in relation to the NGGDPP include: reviewing the progress of the NGGDPP in providing discovery and access to significant State and Federal data and physical object holdings; recommending and facilitating collaborative relationships; soliciting and providing input on NGGDPP activities; and evaluating, via the annual report to the Secretary, through the Director, the progress of the NGGDPP toward fulfilling its purposes under the National Geological and Geophysical Data Preservation Program Act of 2005.

The Committee will meet approximately once annually, and at such times as designated by the Designated Federal Officer. The Committee is composed of 11 members appointed by the Secretary as follows:

1. Two members from the State geological surveys to represent the Association of American State Geologists;

2. Two members from the U.S. Geological Survey, including the Associate Director for Core Science Systems Mission Area;

3. Two members from the private sector to represent the geoscience industry; and

4. One member from academia to represent university geoscience departments.

5. In addition, the Committee will have non-voting ex-officio members to include: Administrator of the Environmental Protection Agency or designee; Secretary of Energy or designee; Secretary of Agriculture or designee; and Secretary of the Interior or a designee from a land management agency of the Department of the Interior.

Representative members will be appointed for staggered terms not to exceed 3-years.

Nominations must include a resume providing an adequate description of the nominee's qualifications, including information that would enable the Department of the Interior to make an informed decision regarding meeting the membership requirements of the Committee and permit the Department to contact a potential member. All those interested in membership must follow the same nomination process.

Members who are appointed to the Committee in their official capacity as Federal employees are subject to applicable Federal ethics statutes and regulations, to include applicable exceptions and exemptions.

Non-Federal members of the Committee and subcommittees appointed as representatives are not subject to Federal ethics statutes and regulations.

However, no non-Federal Committee or subcommittee members will participate in any Committee or subcommittee deliberations or votes relating to a specific party matter before the Department or its bureaus and offices including a lease, license, permit, contract, grant, claim, agreement, or litigation in which the member or the entity the member represents has a direct financial interest.

Members serve without compensation. However, while away from their homes or regular places of business in the performance of services for the Committee, as approved by the Designated Federal Officer, members may be allowed travel expenses, including per diem in lieu of subsistence.

Authority: 5 U.S.C. ch. 10.

Michael Marketti,
Administrative Program Manager, NCGMP, Core Science Systems Mission Area.

[FR Doc. 2024-21964 Filed 9-24-24; 8:45 am]

BILLING CODE 4338-11-P